DEPARTMENT OF LABOR

Employment and Training Administration

[TA-W-51,963]

Nortel Networks, Department R084, Research Triangle Park, NC; Notice of Revised Determination on Reconsideration

By application of August 14, 2003, a petitioner requested administrative reconsideration regarding the Department's Negative Determination Regarding Eligibility to Apply for Worker Adjustment Assistance, applicable to the workers of the subject firm.

The initial investigation resulted in a negative determination issued on July 2, 2003, based on the finding that the petitioning workers of this firm do not produce an article within the meaning of section 222 of the Trade Act of 1974. The denial notice was published in the Federal Register on July 22, 2003 (68 FR 43372).

In a review of the initial investigation, it was revealed that the work performed by the worker group did perform testing and product modification, and that subject firm workers produced an article as part of the finishing work performed on fiber optic backbone telecommunication networks. Further, the initial investigation also revealed that employment declined and that the testing and product modification was shifted to Canada.

Conclusion

After careful review of the facts obtained in the investigation, I conclude that there was a shift in production from the workers firm or subdivision to Canada of articles that are like or directly competitive with those produced by the subject firm or subdivision. In accordance with the provisions of the Act, I make the following certification:

“All workers of Nortel Networks, Department R084, Research Triangle Park, North Carolina, who became totally or partially separated from employment on or after May 19, 2002, through two years from the date of this certification, are eligible to apply for adjustment assistance under Section 223 of the Trade Act of 1974.”

Signed in Washington, DC, this 2nd day of December, 2003.
Elliott S. Kushner,
Certifying Officer, Division of Trade Adjustment Assistance.

[FR Doc. 03-32281 Filed 12-31-03; 8:45 am]

BILLING CODE 4510-30-P